DEPARTMENT OF ENERGY

National Nuclear Security Administration

Defense Programs Advisory Committee

AGENCY: National Nuclear Security Administration, Office of Defense Programs, Department of Energy.

ACTION: Notice of Intent to Establish the Defense Programs Advisory Committee (DPAC).

SUMMARY: Pursuant to Section 14(a)(2)(A) of the Federal Advisory Committee Act (Pub. L. 92-463), and in accordance with Title 41, Code of Federal Regulations, § 102-3.65, and following consultation with the Committee Management Secretariat, General Services Administration, notice is hereby given that the Defense Programs Advisory Committee (DPAC) will be established. The DPAC will provide advice and recommendations to the Deputy Administrator for Defense Programs on the stewardship and maintenance of the Nation's nuclear deterrent.

Additionally, the establishment of the Committee has been determined to be essential to the conduct of the Department's business and to be in the public interest in connection with the performance of duties imposed upon the Department of Energy by law and agreement. The Committee will operate in accordance with the provisions of the Federal Advisory Committee Act and the rules and regulations in implementation of that Act.

SUPPLEMENTARY INFORMATION: The activities of the DPAC will include, but are not limited to:

a. Periodic reviews of the diverse, scientific and technical activities of the Office of Defense Programs including.

b. Ongoing analysis of the DP mission and its foundation in national strategic policy (including the Nuclear Posture Review, provisions of the New START Treaty and other relevant treaties).

c. Potential application of DP capabilities to broader national security issues.

d. Analysis of DP management issues, including facility operations and fiscal matters.

e. Where appropriate, analysis of issues of broader concern to NNSA.

DPAC is expected to be continuing in nature. The Deputy Administrator for Defense Programs will appoint no more than 15 members. Members will be selected to achieve a balanced committee of scientific and technical experts in fields relevant to the Office of Defense Programs. All members must possess a “Q” clearance.

The DPAC is expected to meet approximately two to four times per year. It is anticipated that certain DPAC meetings will be closed to the public due to the classified nature of the Committee's discussions. Meetings will be closed in accordance with FACA and its implementing regulations. Subcommittees may be utilized.

FOR FURTHER INFORMATION CONTACT: COL. Mark Visosky at (202) 287-5270.

Issued in Washington, DC on January 15, 2013.
Carol A. Matthews,
Committee Management Officer.

[FR Doc. 2013-01253 Filed 1-22-13; 8:45 am]

BILLING CODE 6450-01-P